DEPARTMENT OF THE INTERIOR

Bureau of Land Management

[NV-055-5853-EU]

Proposed Information Collection—Alternative Land-Use Planning Scenarios for the Upper Las Vegas Wash Conservation Transfer Area

AGENCY: Bureau of Land Management, Department of the Interior.

ACTION: Withdraw of Notice Published on October 12, 2006.

SUMMARY: The Bureau of Land Management Las Vegas Field Office is withdrawing the Federal Register Notice published on October 12, 2006 on the Proposed Information Collection Notice of Request for Comments. This Proposed Information Collection Notice of Request for Comments will be published at a later date.

FOR FURTHER INFORMATION CONTACT: You may contact Gayle Marrs-Smith, Project Manager at (702) 515-5156, or by e-mail at Gayle_Marrs-Smith@nv.blm.gov.

Dated: October 11, 2006
Juan Palma,
Field Manager, Las Vegas Field Office.

[FR Doc. 06-8819 Filed 10-23-06; 8:45 am]

BILLING CODE 4310-HC-M